DEPARTMENT OF COMMERCE

United States Patent and Trademark Office

Submission for OMB Review; Comment Request; Financial Transactions

The United States Patent and Trademark Office (USTPO) will submit to the Office of Management and Budget (OMB) for clearance the following proposal for collection of information under the provisions of the Paperwork Reduction Act (44 U.S.C. Chapter 35).

Agency: United States Patent and Trademark Office, Commerce.

Title: Financial Transactions.

OMB Control Number: 0651-0043.

Form Number(s):

• PTO-2038

Type of Request: Regular.

Number of Respondents: 4,885,505 responses per year.

Average Hours per Response: The USPTO estimates that it will take the public approximately 1 to 8 minutes (0.03 to 0.13 hours) to prepare the appropriate form or documents and submit to the USPTO.

Burden Hours: 242,402.84 hours annually.

Cost Burden: $111,419.97.

Needs and Uses: Under 35 U.S.C. 41 and 15 U.S.C. 1113, the United States Patent and Trademark Office (USPTO) charges fees for processing and other services related to patents, trademarks, and information products. Customers may submit payments to the USPTO by several methods, including credit card, deposit account, electronic funds transfer (EFT), and paper check transactions. The provisions of 35 U.S.C. 41 and 15 U.S.C. 1113 are implemented in 37 CFR 1.16-1.28, 2.6-2.7, and 2.206-2.209. This information collection includes associated payment and account forms for the aforementioned financial transactions and methods.

Affected Public: Businesses or other for-profits; not-for-profit institutions.

Frequency: On occasion.

Respondent's Obligation: Required to Obtain or Retain Benefits.

OMB Desk Officer: Nicholas A. Fraser, email: Nicholas_A._Fraser@omb.eop.gov.

Once submitted, the request will be publicly available in electronic format through reginfo.gov. Follow the instructions to view Department of Commerce collections currently under review by OMB.

Further information can be obtained by:

• Email: InformationCollection@uspto.gov. Include “0651-0043 copy request” in the subject line of the message.

• Mail: Marcie Lovett, Records and Information Governance Division Director, Office of the Chief Technology Officer, United States Patent and Trademark Office, P.O. Box 1450, Alexandria, VA 22313-1450.

Written comments and recommendations for the proposed information collection should be sent on or before February 28, 2018 to Nicholas A. Fraser, OMB Desk Officer, via email to Nicholas_A._Fraser@omb.eop.gov, or by fax to 202-395-5167, marked to the attention of Nicholas A. Fraser.

Marcie Lovett,
Records and Information Governance Division Director, OCTO, United States Patent and Trademark Office.

[FR Doc. 2018-01611 Filed 1-26-18; 8:45 am]

BILLING CODE 3510-16-P